DEPARTMENT OF ENERGY

Federal Energy Regulatory Commission

[Docket No RP00-283-001]

Questar Pipeline Company; Notice of Compliance Filing

Correction

In notice document 00-18000 appearing on page 44034,in the issue of Monday, July 17, 2000, in the third column, the docket line should read as set forth above.

[FR Doc. C0-18000 Filed 8-16-00; 8:45 am]

BILLING CODE 1505-01-D

FEDERAL COMMUNICATIONS COMMISSION

[Report No. 2425]

Petitions for Reconsideration and Clarification of Action Rulemaking Proceedings

Correction

In notice document 00-18188 appearing on page 44786 in the issue of Wednesday, July 19, 2000, make the following correction:

In the first column, in the fourth paragraph, “Number of Petitions Filed: 21.” should read “Number of Petitions Filed: 1.”.

[FR Doc. C0-18188 Filed 8-16-00; 8:45 am]

BILLING CODE 1505-01-D

SECURITIES AND EXCHANGE COMMISSION

[Release No. 34-42930; File No. SR-CBOE-99-51]

Self-Regulatory Organizations; Notice of Filing of Proposed Rule Change by the Chicago Board Options Exchange, Inc. to Increase the Maximum Order Size Eligible for Automatic Execution

Correction

In notice document 00-15616 beginning on page 38618 in the issue of Wednesday, June 21, 2000, the docket line should read as set forth above.

[FR Doc. C0-15616 Filed 8-16-00; 8:45 am]

BILLING CODE 1505-01-D

SECURITIES AND EXCHANGE COMMISSION

[Release No. 34-42954; File No. SR-NYSE-00-08]

Self-Regulatory Organizations; Notice of Filing and Order Granting Accelerated Approval of Proposed Rule Change and Amendment No. 1 Thereto by the New York Stock Exchange, Inc. Relating to the Exchange's Price-Based Continued Listing Standards

Correction

In notice document 00-16026 beginning on page 39459 in the issue of Monday, June 26, 2000, the docket line should read as set forth above.

[FR Doc. C0-16026 Filed 8-16-00; 8:45 am]

BILLING CODE 1505-01-D

SECURITIES AND EXCHANGE COMMISSION

[Release No. 34-42988; File No. SR-BSE-00-05]

Self-Regulatory Organizations; Notice of Filing and Order Granting Accelerated Approval of Proposed Rule Change and Amendment No. 1 by the Boston Stock Exchange, Inc. Relating to Index Fund Shares

Correction

In notice document 00-17148 beginning on page 42041 in the issue of Friday, July 7, 2000, make the following correction:

On page 42046, in the second column, in the first and second lines, “ [insert date 21 days from date of publication]” should read “July 28, 2000”.

[FR Doc. C0-17148 Filed 8-16-00; 8:45 am]

BILLING CODE 1505-01-D

SECURITIES AND EXCHANGE COMMISSION

[Release No. 34-43011; File No. SR-Phix-00-28]

Self-Regulatory Organizations; Order Approving Proposed Rule Change by the Philadelphia Stock Exchange, Inc. to Divide Its Allocation, Evaluation and Securities Into Two Separate Committees

July 5, 2000.

Correction

In notice document 00-17597 beginning on page 43069 in the issue of Wednesday, July 12, 2000, the heading is corrected by adding the date “ July 5, 2000.”.

[FR Doc. C0-17597 Filed 8-16-00; 8:45 am]

BILLING CODE 1505-01-D

SECURITIES AND EXCHANGE COMMISSION

[Release No. 34-43026; File No. SR-GSCC-00-07]

Self-Regulatory Organizations; Government Securities Clearing Corporation; Notice of Filing and Immediate Effectiveness of Proposed Rule Change Relating to Changes to GSCC's Fee Structure With Respect to Minimum Monthly fees and Additional Accounts Fees

July 12, 2000.

Correction

In notice document 00-18088 beginning on page 44555 in the issue of Tuesday, July 18, 2000, in the second column, the heading is corrected by adding the date “July 12, 2000.”.

[FR Doc. C0-18088 Filed 8-16-00; 8:45 am]

BILLING CODE 1505-01-D

SECURITIES AND EXCHANGE COMMISSION

[Release No. 34-43044; International Series Release No. 1228; File No. SR-NYSE-00-25]

Self-Regulatory Organizations; Notice of Filing and Order Granting Accelerated Approval of Proposed Rule Change by New York Stock Exchange, Inc., Relating to the Trading of the Ordinary Share of Celanese AG

Correction

In notice document 00-18741 beginning on page 45808 in the issue of Tuesday, July 25, 2000, make the following correction:

On page 45810, first column, last three lines of III. Solicitation of Comments ,“[insert date 21 days from the date of publication]” should read “August 15, 2000”.

[FR Doc. C0-18741 Filed 8-16-00; 8:45 am]

BILLING CODE 1505-01-D

SECURITIES AND EXCHANGE COMMISSION

[Release No. 34-43052; File No. SR-CBOE-00-16]

Self-Regulatory Organizations; Notice of Filing and Order Granting Accelerated Approval to a Proposed Rule Change and Amendment No. 1 to the Proposed Rule Change by the Chicago Board Options Exchange, Inc. Relating to an Increase in Narrow-Based Index Option Position and Exercise Limits

Correction

In notice document 00-18743 beginning on page 45805 in the issue of Tuesday, July 25, 2000, in the third column (on that page), the release number has been corrected as shown in the docket line above.

[FR Doc. C0-18743 Filed 8-16-00; 8:45 am]

BILLING CODE 1505-01-D

DEPARTMENT OF TRANSPORTATION

Federal Aviation Administration

14 CFR Part 71

[Airspace Docket No. 00-ASO-9]

Amendment to Class D and Class E5 Airspace, Greenwood, MS

Correction

In rule document 00-15950 beginning on page 39081 in the issue of Friday, June 23, 2000, make the following corrections:

§71.1 [Corrected]

1. On page 39082, in the first column in §71.1, under the heading ASO MS D Greenwood, MS [Revised], remove ``Sidon VORTAC (Lat. 33°27′50″, long. 90°16′38″)''.

2. On page 39082, in the first column, under the heading ASO MS E4 Greenwood, MS [Revised], add the following after the second line:

Sidon VORTAC

(Lat. 33°27′50″, long. 90°16′38″).

[FR Doc. C0-15950 Filed 8-16-00; 8:45 am]

BILLING CODE 1505-01-D

DEPARTMENT OF THE TREASURY

Internal Revenue Service

26 CFR Part 1

[TD 8884]

RIN 1545-AV88

Consolidated Returns—Limitations on the Use of Certain Credits

Correction

In rule document 00-11901 beginning on page 33753 in the issue of Thursday, May 25, 2000, make the following correction:

§1.1502-3 [Corrected]

On page 33756, in the third column, in paragraph (d)(4)(i), 26 lines from the top, “9(b)(1)(ii), (iii), and (iv)” should read “9A(b)(1)(ii), (iii), and (iv)”.

[FR Doc. C0-11901 Filed 8-16-00; 8:45 am]

BILLING CODE 1505-01-D